NUCLEAR REGULATORY COMMISSION

[NRC-2010-0289]

Final Division of Safety Systems Interim Staff Guidance DSS-ISG-2010-01: Staff Guidance Regarding the Nuclear Criticality Safety Analysis for Spent Fuel Pools

AGENCY: Nuclear Regulatory Commission.

ACTION: Notice of availability.

SUMMARY: The U.S. Nuclear Regulatory Commission (NRC) is issuing the final Division of Safety Systems Interim Staff Guidance, (DSS-ISG) DSS-ISG-2010-01, “Staff Guidance Regarding the Nuclear Criticality Safety Analysis for Spent Fuel Pools.” This DSS-ISG provides updated guidance to the NRC staff reviewer to address the increased complexity of recent spent fuel pool (SFP) license application analyses and operations. The guidance is intended to reiterate existing guidance, clarify ambiguity in existing guidance, and identify lessons learned based on recent submittals.

FOR FURTHER INFORMATION CONTACT: Mr. Kent Wood, Division of Safety Systems, Office of Nuclear Reactor Regulation, U.S. Nuclear Regulatory Commission, Washington, DC 20555-0001; telephone: 301-415-4120; or e-mail: Kent.Wood@nrc.gov.

ADDRESSES: You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this final rule can be found at http://www.regulations.gov by searching on Docket ID NRC-2010-0289. Address questions about NRC dockets to Carol Gallagher, telephone: 301-492-3668; e-mail: Carol.Gallagher@nrc.gov.

SUPPLEMENTARY INFORMATION: The agency posts its issued staff guidance in the agency external Web page (http://www.nrc.gov/reading-rm/doc-collections/isg/).

The guidance in DSS-ISG-2010-01 is to be used by NRC staff to review: (i) Future applications; and (ii) future licensee applications for license amendments and requests for exemptions from compliance with applicable requirements.

Dated at Rockville, Maryland this 29th day of September 2011.
For the Nuclear Regulatory Commission.
Sher Bahadur,
Acting Director, Division of Safety Systems, Office of Nuclear Reactor Regulation

[FR Doc. 2011-26468 Filed 10-12-11; 8:45 am]

BILLING CODE 7590-01-P